NUCLEAR REGULATORY COMMISSION

Notice for Opportunity To Comment on Model Safety Evaluation on Technical Specification Improvement To Revise Diesel Fuel Oil Testing Program Using the Consolidated Line Item Improvement Process

AGENCY: Nuclear Regulatory Commission.

ACTION: Request for comment.

SUMMARY: Notice is hereby given that the staff of the Nuclear Regulatory Commission (NRC) has prepared a model safety evaluation (SE) relating to changes to Diesel Fuel Oil Testing Programs. The changes relocate references to specific American Society for Testing and Materials (ASTM) standards for fuel oil testing to licensee-controlled documents and adds alternate criteria to the “clear and bright” acceptance test for new fuel oil. The NRC staff has also prepared a model no significant hazards consideration (NSHC) determination relating to this matter. The purpose of these models is to permit the NRC to efficiently process amendments that propose to adopt the associated changes into plant-specific technical specifications (TS). Licensees of nuclear power reactors to which the models apply could request amendments confirming the applicability of the SE and NSHC determination to their reactors. The NRC staff is requesting comments on the model SE and model NSHC determination prior to announcing their availability for referencing in license amendment applications.

DATES: The comment period expires 30 days from the date of this publication. Comments received after this date will be considered if it is practical to do so, but the Commission can only ensure consideration only for comments received on or before this date.

ADDRESSES: Comments may be submitted either electronically or via U.S. mail.

Submit written comments to: Chief, Rules and Directives Branch, Division of Administrative Services, Office of Administration, Mail Stop T-6D59, U.S. Nuclear Regulatory Commission, Washington, DC 20555-0001.

Hand deliver comments to 11545 Rockville Pike, Rockville, Maryland, between 7:45 a.m. and 4:15 p.m. on Federal workdays.

Copies of comments received may be examined at the NRC's Public Document Room, located at One White Flint North, 11555 Rockville Pike (first floor), Rockville, Maryland.

Comments may be submitted by electronic mail to CLIIP@nrc.gov.

FOR FURTHER INFORMATION CONTACT: William D. Reckley, Special Projects Branch, Division of Policy and Rulemaking, Office of Nuclear Reactor Regulation, Mail Stop O-7D1, U.S. Nuclear Regulatory Commission, Washington, DC 20555-0001, telephone 301-415-1323.

SUPPLEMENTARY INFORMATION:

Background

Regulatory Issue Summary 2000-06, “Consolidated Line Item Improvement Process for Adopting Standard Technical Specification Changes for Power Reactors,” was issued on March 20, 2000. The consolidated line item improvement process (CLIIP) is intended to improve the efficiency and transparency of NRC licensing processes. This is accomplished by processing proposed changes to the Standard Technical Specifications (STS) (NUREGs 1430-1434) in a manner that supports subsequent license amendment applications. The CLIIP includes an opportunity for the public to comment on proposed changes to the STS following a preliminary assessment by the NRC staff and finding that the change will likely be offered for adoption by licensees. The CLIIP directs the NRC staff to evaluate any comments received for a proposed change to the STS and to either reconsider the change or proceed with announcing the availability of the change to licensees. Those licensees opting to apply for the subject change to TS are responsible for reviewing the NRC staff's evaluation, referencing the applicable technical justifications, and providing any necessary plant specific information. Each amendment application submitted in response to the notice of availability would be processed and noticed in accordance with applicable rules and NRC procedures.

This notice for comment involves the relocation of references to specific ASTM standards for fuel oil testing to licensee-controlled documents and adds alternate criteria to the “clear and bright” acceptance test for new fuel oil. The changes were proposed by the Technical Specification Task Force (TSTF) in STS Change Traveler TSTF-374, accessible electronically from the Agencywide Documents Access and Management System (ADAMS) Public Electronic Reading Room on the Internet at the NRC Web site http://www.nrc.gov/reading-rm/adams.html (Accession No. ML011340449). Persons who do not have access to ADAMS or who encounter problems in accessing the documents located in ADAMS, should contact the NRC Public Document Room Reference staff by telephone at 1-800-397-4209, 301-415-4737, or by e-mail to pdr@nrc.gov.

Applicability

This proposed change to adopt TSTF-374 is applicable to all nuclear power reactors. The CLIIP does not prevent licensees from requesting an alternative approach or proposing changes other than those proposed in TSTF-374. Variations from the approach recommended in this notice may, however, require additional review by the NRC staff and may increase the time and resources needed for the review.

Public Notices

This notice requests comments from interested members of the public within 30 days of the date of publication in the Federal Register. Following the NRC staff's evaluation of comments received as a result of this notice, the NRC staff may reconsider the proposed change or may proceed with announcing the availability of the change in a subsequent notice (perhaps with some changes to the SE or proposed NSHC determination as a result of public comments). If the NRC staff announces the availability of the change, licensees wishing to adopt the change will submit an application in accordance with applicable rules and other regulatory requirements. The NRC staff will in turn issue for each application a notice of proposed action, which includes a proposed NSHC determination. A notice of issuance of an amendment of operating license will also be issued to announce the adoption of TSTF-374 for each plant that applies for and receives the requested change.

Proposed Safety Evaluation

U.S. Nuclear Regulatory Commission, Office of Nuclear Reactor Regulation, Consolidated Line Item Improvement, Technical Specification Task Force (TSTF) Change Traveler TSTF-374, Diesel Fuel Oil Testing Program.

1.0 Introduction

By application dated [DATE], [LICENSEE NAME] (the licensee), submitted a request for changes to the [PLANT NAME], Technical Specifications (TS) (Agencywide Documents Access and Management System Accession No. [MLxxxxxxxxx]). The requested change would relocate references to specific American Society for Testing and Materials (ASTM) standards for fuel oil testing to licensee-controlled documents and would add alternate criteria to the “clear and bright” acceptance test for new fuel oil. These changes were described in a Notice of Availability published in the Federal Register on [DATE] ([xx FR xxxxx]).

2.0 Regulatory Evaluation

The onsite electrical power system includes standby power sources, distribution systems, and vital auxiliary supporting systems to supply power to safety-related equipment. Most commercial nuclear power plants use diesel generators as the emergency power source for the safety-related electrical buses. The importance of the diesel generators (or other standby power sources) is reflected in their incorporation into NRC regulations, TS, and other regulatory programs, including Appendix B (“Quality Assurance Criteria for Nuclear Power Plants and Fuel Reprocessing Plants”) to part 50 of Title 10 of the Code of Federal Regulations (10 CFR part 50). NUREG-0800, “Standard Review Plan for the Review of Safety Analysis Reports for Nuclear Power Plants,” addresses diesel fuel oil and other supporting systems in section 9.5.4, “Emergency Diesel Engine Fuel Oil Storage and Transfer System Review Responsibilities.”

The TS include requirements for testing diesel fuel oil to ensure it is of the appropriate grade and that it has not been contaminated (i.e., proper fuel oil quality). The Diesel Fuel Oil Testing Program defined in the TS includes tests for (1) the acceptability of new fuel oil for use prior to addition to storage tanks; (2) other properties of new fuel oil within limits within 30 days following sampling and addition to storage tanks; and (3) total particulate concentration of the fuel oil every 31 days. The current TS identify particular ASTM standards and methods of performing these tests. The industry submitted TSTF-374 proposing changes to the Standard TS (STS) (NUREGs 1430—1434) to provide the flexibility to address future changes in Environmental Protection Agency (EPA) regulations for fuel oil or revisions to the ASTM standards. TSTF-374 was reviewed and accepted by the NRC staff and has been incorporated into each of the STS NUREGs. Requirements for testing the diesel fuel oil are maintained, but references to specific ASTM standards are relocated to licensee-controlled documents and an alternative to the “clear and bright” acceptance test for new fuel is added to address changes in EPA requirements.

3.0 Technical Evaluation

In adopting TSTF-374, the licensee proposes to relocate the reference to specific ASTM standards from the TS Administrative Controls Section [5.5.13], “Diesel Fuel Oil Testing Program,” to a licensee-controlled document. Although the reference to specific testing standards or methods is relocated, TS [5.5.13] retains acceptance criteria for new and stored diesel fuel oil and refers to “applicable ASTM standards” for sampling and testing requirements. The specific testing standards or methods are relocated to the TS Bases Section, which are controlled in accordance with 10 CFR 50.59, “Changes, tests, and experiments,” as described in TS [5.5.14], “Technical Specification (TS) Bases Control Program.” The licensee's testing programs for diesel fuel oil are also governed by other regulatory requirements, including Appendix B (Quality Assurance Criteria) to 10 CFR part 50. While the relocation of selected program details provides the licensee with some flexibility to adopt practices defined in future ASTM standards, the NRC staff finds that the remaining TS, TS Bases Control Program, and other NRC regulations provide appropriate regulatory controls to ensure diesel fuel oil quality will be maintained.

The plant-specific adoption of TSTF-374 also includes an alternative to the “clear and bright” test currently required for new fuel oil acceptability. The revised TS would allow either the “clear and bright” test or a test confirming that the fuel oil has “water and sediment content within limits.” This alternative test is better suited for darker colored fuels and is recognized in ASTM standards that have been referenced in NRC approved amendment requests. The NRC staff finds that the alternative for testing the water and sediment content will maintain or improve the inspection of new fuel oil and therefore finds the change acceptable.

The licensee included in its application the proposed revisions to the TS Bases to reflect the changes to TS [5.5.13] and to incorporate the references to the applicable ASTM standards. The changes are consistent with TSTF-374 and will be incorporated into the TS Bases in accordance with TS [5.5.14].

4.0 State Consultation

In accordance with the Commission's regulations, the [STATE] State official was notified of the proposed issuance of the amendments. The State official had [(1) no comments or (2) the following comments—with subsequent disposition by the staff].

5.0 Environmental Consideration

The amendment changes a requirement with respect to the installation or use of a facility component located within the restricted area as defined in 10 CFR part 20 and changes surveillance requirements. The NRC staff has determined that the amendment involves no significant increase in the amounts and no significant change in the types of any effluents that may be released offsite, and that there is no significant increase in individual or cumulative occupational radiation exposure. The Commission has previously issued a proposed finding that the amendment involves no significant hazards consideration, and there has been [(1) no public comment on such finding (2) the following comments with subsequent disposition by the NRC staff ([xx FR xxxxx, DATE]). Accordingly, the amendment meets the eligibility criteria for categorical exclusion set forth in 10 CFR 51.22(c)(9). Pursuant to 10 CFR 51.22(b) no environmental impact statement or environmental assessment need be prepared in connection with the issuance of the amendment.

6.0 Conclusion

The Commission has concluded, based on the considerations discussed above, that (1) there is reasonable assurance that the health and safety of the public will not be endangered by operation in the proposed manner, (2) such activities will be conducted in compliance with the Commission's regulations, and (3) the issuance of the amendments will not be inimical to the common defense and security or to the health and safety of the public.

Proposed No Significant Hazards Consideration Determination

Description of amendment request: The requested change would relocate references in the technical specifications (TS) to specific American Society for Testing and Materials (ASTM) standards for fuel oil testing to licensee-controlled documents and would add alternate criteria to the “clear and bright” acceptance test for new fuel oil. The proposed change is described in Technical Specification Task Force (TSTF) Standard TS Change Traveler TSTF-374 related to the Diesel Fuel Oil Testing Program and was described in the Notice of Availability published in the Federal Register on [DATE] ([xx FR xxxxx]).

Basis for proposed no significant hazards consideration determination: As required by 10 CFR 50.91(a), an analysis of the issue of no significant hazards consideration is presented below:

1. Does the proposed change involve a significant increase in the probability or consequences of any accident previously evaluated?

Response: No.

The proposed changes relocate the specific ASTM standard references from the Administrative Controls Section of TS to a licensee-controlled document. Requirements to perform testing in accordance with applicable ASTM standards are retained in the TS as are requirements to perform surveillances of both new and stored diesel fuel oil. Future changes to the licensee-controlled document will be evaluated pursuant to the requirements of 10 CFR 50.59, “Changes, tests and experiments,” to ensure that such changes do not result in more than a minimal increase in the probability or consequences of an accident previously evaluated. In addition, the “clear and bright” test used to establish the acceptability of new fuel oil for use prior to addition to storage tanks has been expanded to recognize more rigorous testing of water and sediment content. Relocating the specific ASTM standard references from the TS to a licensee-controlled document and allowing a water and sediment content test to be performed to establish the acceptability of new fuel oil will not affect nor degrade the ability of the emergency diesel generators (DGs) to perform their specified safety function. Fuel oil quality will continue to meet ASTM requirements.

The proposed changes do not adversely affect accident initiators or precursors nor alter the design assumptions, conditions, and configuration of the facility or the manner in which the plant is operated and maintained. The proposed changes do not adversely affect the ability of structures, systems, and components (SSCs) to perform their intended safety function to mitigate the consequences of an initiating event within the assumed acceptance limits. The proposed changes do not affect the source term, containment isolation, or radiological release assumptions used in evaluating the radiological consequences of any accident previously evaluated. Further, the proposed changes do not increase the types and amounts of radioactive effluent that may be released offsite, nor significantly increase individual or cumulative occupational/public radiation exposures.

Therefore, the changes do not involve a significant increase in the probability or consequences of any accident previously evaluated.

2. Does the proposed change create the possibility of a new or different kind of accident from any accident previously evaluated?

Response: No.

The proposed changes relocate the specific ASTM standard references from the Administrative Controls Section of TS to a licensee-controlled document. In addition, the “clear and bright” test used to establish the acceptability of new fuel oil for use prior to addition to storage tanks has been expanded to allow a water and sediment content test to be performed to establish the acceptability of new fuel oil. The changes do not involve a physical alteration of the plant (i.e., no new or different type of equipment will be installed) or a change in the methods governing normal plant operation. The requirements retained in the TS continue to require testing of the diesel fuel oil to ensure the proper functioning of the DGs.

Therefore, the changes do not create the possibility of a new or different kind of accident from any accident previously evaluated.

3. Does the proposed change involve a significant reduction in a margin of safety?

Response: No.

The proposed changes relocate the specific ASTM standard references from the Administrative Controls Section of TS to a licensee-controlled document. Instituting the proposed changes will continue to ensure the use of applicable ASTM standards to evaluate the quality of both new and stored fuel oil designated for use in the emergency DGs. Changes to the licensee-controlled document are performed in accordance with the provisions of 10 CFR 50.59. This approach provides an effective level of regulatory control and ensures that diesel fuel oil testing is conducted such that there is no significant reduction in a margin of safety.

The “clear and bright” test used to establish the acceptability of new fuel oil for use prior to addition to storage tanks has been expanded to allow a water and sediment content test to be performed to establish the acceptability of new fuel oil. The margin of safety provided by the DGs is unaffected by the proposed changes since there continue to be TS requirements to ensure fuel oil is of the appropriate quality for emergency DG use. The proposed changes provide the flexibility needed to improve fuel oil sampling and analysis methodologies while maintaining sufficient controls to preserve the current margins of safety.

Based upon the reasoning presented above, the NRC staff proposes to determine that the amendment request involves no significant hazards consideration.

Dated at Rockville, Maryland, this 10th day of February 2006.
For the Nuclear Regulatory Commission.
William D. Reckley,
Senior Project Manager, Special Projects Branch, Division of Policy and Rulemaking, Office of Nuclear Reactor Regulation.

[FR Doc. 06-1621 Filed 2-21-06; 8:45 am]

BILLING CODE 7590-01-P